OVERSEAS PRIVATE INVESTMENT CORPORATION

Sunshine Act Cancellation Notice—OPIC June 6, 2018 Public Hearing

OPIC's Sunshine Act notice of its Public Hearing in Conjunction with each Board meeting was published in the Federal Register (Volume 83, Number 94, Page 22536) on Tuesday, May 15, 2018. No requests were received to provide testimony or submit written statements for the record; therefore, OPIC's public hearing scheduled for 2 p.m., June 6, 2018 in conjunction with OPIC's June 14, 2018 Board of Directors meeting has been cancelled.

CONTACT PERSON FOR INFORMATION: Information on the hearing cancellation may be obtained from Catherine F.I. Andrade at (202) 336-8768, or via email at Catherine.Andrade@opic.gov.

Dated: May 31, 2018.
Catherine F.I. Andrade,
OPIC Corporate Secretary.

[FR Doc. 2018-12018 Filed 5-31-18; 4:15 pm]

BILLING CODE 3210-01-P